DEPARTMENT OF TRANSPORTATION

National Highway Traffic Safety Administration

[Docket No. NHTSA-2020-0063; Notice 1]

Daimler Trucks North America, LLC, Receipt of Petition for Decision of Inconsequential Noncompliance

AGENCY: National Highway Traffic Safety Administration (NHTSA), Department of Transportation (DOT).

ACTION: Receipt of petition.

SUMMARY: Daimler Trucks North America, LLC, (DTNA) has determined that certain model year (MY) 2020-2021 Freightliner Cascadia heavy motor vehicles do not fully comply with Federal Motor Vehicle Safety Standard (FMVSS) No. 108, Lamps, Reflective Devices, and Associated Equipment. DTNA filed a noncompliance report dated May 12, 2020, and amended the report on December 23, 2021. DTNA subsequently petitioned NHTSA on June 4, 2020, and later amended its petition on July 22, 2020, and January 19, 2022, for a decision that the subject noncompliances are inconsequential as it relates to motor vehicle safety. This notice announces receipt of DTNA's petition.

DATES: Send comments on or before May 13, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview

DTNA has determined that certain MY 2020-2021 Freightliner Cascadia heavy motor vehicles do not fully comply with the requirements of paragraph S6.1.5.1 of FMVSS No. 108, Lamps, Reflective Devices, and Associated Equipment (49 CFR 571.108). DTNA filed a noncompliance report dated May 12, 2020, and amended the report on December 23, 2021, pursuant to 49 CFR part 573, Defect and Noncompliance Responsibility and Reports. DTNA subsequently petitioned NHTSA on June 4, 2020, and later amended its petition on July 22, 2020, and January 19, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of DTNA's petition is published under 49 U.S.C. 30118 and 30120 and does not represent any Agency decision or other exercise of judgment concerning the merits of the petition.

II. Trucks Involved

Approximately 24,282 MY 2020-2021 Freightliner Cascadia heavy motor vehicles manufactured between January 16, 2019, and March 27, 2020, are potentially involved.

III. Noncompliance

DTNA explains that the first noncompliance is that during an Advanced Brake Assist (ABA) event, the hazard warning signal in the subject vehicles, does not meet the flash rate required by paragraph S6.1.5.1 of FMVSS No. 108. Specifically, during an emergency braking (EB) stage of ABA events and if the vehicle is being operated at 20 kilometers per hour (km/h) (12 miles per hour (MPH)) or more, the hazard warning signal lights are actuated at a flash rate of 140 flashes per minute when the flash rate should be between 60 and 120 flashes per minute. In addition to the flash rate noncompliance, DTNA says that in specific operating circumstances, where the truck has progressed to the third and final phase of an ABA event, the system automatically activates the hazard warning lamps contrary to the definition of the vehicular hazard warning signal operating unit which states it is a driver controlled device.

IV. Rule Requirements

Paragraphs S4, S6.1.5.1, S9.6.2, S14.9.3.9.3, and Figure 2 of FMVSS No. 108 include the requirements relevant to this petition. Paragraph S4 defines the vehicular hazard warning signal operating unit as a driver-controlled device which causes all required turn signal lamps to flash simultaneously to indicate to approaching drivers the presence of a vehicular hazard. Paragraph S.6.1.5.1 requires that in all passenger cars, multipurpose passenger vehicles, trucks, and buses, the activation of the vehicular hazard warning signal operating unit must cause to flash simultaneously sufficient turn signal lamps to meet, as a minimum, the turn signal photometric requirements of this standard. Paragraph S9.6.2 requires that the vehicular hazard warning signal operating unit must operate independently of the ignition or equivalent switch and if the actuation of the hazard function requires the operation of more than one switch, a means must be provided for actuating all switches simultaneously by a single driver action. Paragraph S14.9.3.9.3 requires that the flash rate and percent current “on” time test for at least 17 of 20 samples comply with the following: (a) The performance of a normally closed type flasher must be within the unshaded portion of the polygon shown in Figure 2, or (b) The performance of a normally open type flasher must be within the entire rectangle including the shaded areas shown in Figure 2.

V. Summary of DTNA's Petition

The following views and arguments presented in this section, “V. Summary of DTNA's Petition,” are the views and arguments provided by DTNA. They have not been evaluated by the Agency and do not reflect the views of the Agency. DTNA described the subject noncompliances and stated its belief that the noncompliance is inconsequential as it relates to motor vehicle safety.

DTNA explains the three phases of an ABA event as follows: First, there is the Optic Acoustic Warning (OAW), the Warn (Haptic) Braking (WB/HB), and then the EB. The first phase, OAW, “warns the operator of a possible collision with a pop-up and audio alert only,” and will move into the second phase, “if the driver does not apply sufficient deceleration by applying service brakes.” The WB/HB “applies 50 percent deceleration to the vehicle in order to assist the driver in mitigating a possible collision.” Then, DTNA states, “[i]f the system deems it necessary” it will start the EB phase (third phase) which would apply “maximum braking force to assist the driver in bringing the truck to a complete halt.” DTNA states that only during this third phase would “the warning system in question engage.”

DTNA provides background information, detailing the development of its ABA system ¹ and states that its findings show “that an EB event is an extremely rare scenario that is visible only for a short period of time in only the rarest of extreme braking events.” According to DTNA, the data “conveys that an EB event has an extremely short occurrence with a negligible reaction time to notice the change in hazard warning signal flash rate.” Further according to DTNA, the average EB event lasts “less than 1 second” and of “millions of miles of recorded data” the maximum EB event observed lasted “less than 3 seconds.” Specific to the noncompliant flash rate, DTNA says this data supports their assertion that “the number of blink cycles between the maximum permissible flash rate and emergency braking flash rate on the subject vehicles is minimal.”

¹ Details of DTNA's ABA development can be found in its petition at https://www.regulations.gov/document/NHTSA-2020-0063-0002.

DTNA contends that “[t]he flashing warning provides other vehicles with a safe indication of the aggressiveness of the braking.” DTNA claims that NHTSA has found that “flashing warning under certain extreme braking events may be regarded as a safer indicator for rear signaling.” ² DTNA also notes that the Federal Motor Carrier Safety Administration “has granted an approval” for hazmat hauler tanker trucks to use amber brake activated lights, following a 30-month study by Groendyke Transportation which found that a “pulsating amber brake light reduced rear-end collisions by roughly 34%.”

² DTNA cites Analyses of Rear-End Crashes and Near-Crashes in the 100-Car Naturalistic Driving Study to Support Rear-Signaling Countermeasure Development. DOT HS 810 846 (October 2007).

Further, DTNA states that NHTSA has previously granted petitions for noncompliances similar to the noncompliant flash rate ³ where those noncompliances only occur “under specific and rare conditions,” ⁴ and “were granted for short duration of occurrence” ⁵

³ See General Motors Corporation; Grant of Application for Decision of Inconsequential Noncompliance, 66 FR 32871 (June 18, 2001).

⁴ See General Motors, LLC, Grant of Petition for Decision of Inconsequential Noncompliance, 83 FR 7847 (February 22, 2018) and General Motors, LLC, Grant of Petition for Decision of Inconsequential Noncompliance, 78 FR 35355 (June 12, 2013).

⁵ See Volkswagen Group of America, Inc., Grant of Petition for Decision of Inconsequential Noncompliance, 84 FR 8151 (March 6, 2019), Maserati S.p.A and Maserati North America, Inc., Grant of Petition for Decision of Inconsequential Noncompliance, 81 FR 1676 (January 13, 2016), and General Motors Corporation; Grant of Application for Decision of Inconsequential Noncompliance, 61 FR 56734 (November 4, 1996).

DTNA states that it “is not aware of any accidents, injuries, owner complaints or field reports” in relation to the subject noncompliances.

On September 13, 2022, NHTSA contacted DTNA to further explain and discuss the automatic activation of the hazard warning lamps. DTNA clarified that “based on analysis of prior agency interpretations,” it believes that the “limited technical parameters and operating conditions under which the hazard warning lamps would activate,” does not constitute a noncompliance with FMVSS No. 108. NHTSA informed DTNA that the prior interpretations did not support DTNA's position because the subject vehicles “have not come to a complete stop at the time the hazard warning lamps activate.” As a result, DTNA amended its original petition to include the automatic activation of the hazard warning lamps as a noncompliance.

DTNA believes that this noncompliance is also inconsequential because the “limited context in which the hazard lamps automatically activate ensure the message which the hazard warning lamps is communicating is clear and does not confuse other drivers about the meaning of the lamps.” DTNA again explains the phases of its ABA system and says that if the driver does not disengage the ABA system, it “will apply the maximum braking force” and cause the vehicle to come to a complete stop. When the emergency braking is activated in this phase while the subject vehicle is traveling at 20 mph or more “the hazard warning lamps are automatically activated and flash at a rate of 140 Hz.” Therefore, DTNA says, the automatic activation of the hazard warning lamps would not occur “in stop and go traffic.” DTNA also notes that after the subject vehicle “comes to a complete stop, the hazard lamps revert to a standard flash rate” and “throughout the ABA event, the hazard warning signal operating unit can be manually engaged by the driver.”

DTNA then contends that the automatic activation of the hazard warning lamps is consistent with prior NHTSA interpretations in which it says, “the agency has found automatic activation of the hazard warning signal operating unit to be appropriate in certain circumstances.” DTNA claims that the November 18, 2016, interpretation letter to General Motors ⁶ supports its view. In that interpretation letter, DTNA says that NHTSA “concluded that in the context of an adaptive cruise control system, the automatic activation of the hazard warning lamps was consistent with FMVSS 108 if the human driver failed to respond to the system's requests to regain control of the vehicle.” DTNA argues that the automatic activation of the hazard warning lamps in the subject vehicles is consistent with the condition found in the interpretation letter to General Motors. Id.

⁶ https://www.nhtsa.gov/interpretations/16-1289-gm-hazard-innovative-28-apr-16-rsy.

DTNA claims that the automatic activation of the hazard warning lamps “is consistent with the type of message the hazard lamps are intended to convey” and consistent with other NHTSA precedents.⁷

⁷ See SAE J910, Jan. 1966; see also Letter to Sen. Richard Lugar (May 9, 2000).

DTNA concludes by expressing its belief that the subject noncompliances are inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that DTNA no longer controlled at the time it determined that the noncompliance existed. However, any decision on this petition does not relieve vehicle distributors and dealers of the prohibitions on the sale, offer for sale, or introduction or delivery for introduction into interstate commerce of the noncompliant vehicles under their control after DTNA notified them that the subject noncompliances existed.

(Authority: 49 U.S.C. 30118, 30120: Delegations of authority at 49 CFR 1.95 and 501.8)

Otto G. Matheke III,
Director, Office of Vehicle Safety Compliance.

[FR Doc. 2022-07825 Filed 4-12-22; 8:45 am]

BILLING CODE 4910-59-P